DEPARTMENT OF TRANSPORTATION

Coast Guard

[USCG-2001-9254]

Chemical Transportation Advisory Committee

AGENCY: Coast Guard, DOT.

ACTION: Notice of meeting.

SUMMARY: The newly formed Subcommittee of the Chemical Transportation Advisory Committee (CTAC) on Vessel Cargo Tank Overpressurization will meet to review current industry practices and procedures involving the introduction of pressurized nitrogen gas from waterfront facilities to a marine vessel's cargo tanks during inerting, padding, purging, and line clearing operations. As a result of this meeting, and subsequent meetings as deemed necessary by the chairman, this Subcommittee will develop recommendations to prevent the occurrence of cargo tank overpressurization incidents. This meeting will be open to the public.

DATES: The Subcommittee will meet on Tuesday, April 24, 2001, from 9:00 a.m. to 4:30 p.m. and on Wednesday, April 25, 2001, from 8:30 a.m. to 12:00 p.m. This meeting may close early if all business is finished. Written material and requests to make oral presentations should reach the Coast Guard on or before April 16, 2001. Requests to have a copy of your material distributed to each member of the Subcommittee should reach the Coast Guard on or before April 16, 2001.

ADDRESSES: The Subcommittee will meet at the Stolt-Nielsen Transportation Group Ltd., 15635 Jacintoport Blvd., Houston, Texas. Send written material and requests to make oral presentations to Lieutenant Michael McKean, Coast Guard Technical Representative for the Subcommittee, Commandant (G-MSO-3), U.S. Coast Guard Headquarters, 2100 Second Street SW., Washington, DC 20593-0001.

FOR FURTHER INFORMATION CONTACT: Lieutenant Michael McKean, Deputy Assistant to the Executive Director of CTAC, telephone 202-267-0087, fax 202-267-4570.

SUPPLEMENTARY INFORMATION: Notice of this meeting is given under the Federal Advisory Committee Act, 5 U.S.C. App. 2.

Agenda of Meeting

The agenda of the CTAC Subcommittee on Cargo Tank Overpressurization includes the following:

(1) Introduction of Subcommittee members and attendees.

(2) Brief overview of Subcommittee tasking and desired outcome.

(3) Definition of technical terms.

(4) Review of current statutory requirements.

(5) Review of inerting, purging, padding, and line clearing operations.

(6) Identification of risk factors that cause overpressurization.

(7) Review of existing guidance, literature search tasking, and identification of best practices.

(8) Discussion of final product format and plan for future work.

Procedural

The meeting is open to the public. Please note that the meeting may close early if all business is finished. All attendees at the meeting are encouraged to fully review the Subcommittee's task statement prior to the meeting. Copies of the Subcommittee's task statement can be obtained from Lieutenant Michael McKean, telephone 202-267-0087, fax 202-267-4570. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before April 16, 2001. If you would like a copy of your material distributed to each member of the Subcommittee in advance of a meeting, please submit 25 copies to the Coast Guard Technical Representative to the Subcommittee no later than April 16, 2001.

Information on Services for Individuals With Disabilities

For information on facilities or services for individuals with disabilities, or to request special assistance at the meeting, contact the Deputy Assistant to the Executive Director of CTAC as soon as possible.

Dated: March 27, 2001.
Howard L. Hime,
Acting Director of Standards, Marine Safety and Environmental Protection.

[FR Doc. 01-8185 Filed 4-3-01; 8:45 am]

BILLING CODE 4910-15-U